DEPARTMENT OF STATE

[Public Notice 4002]

Bureau of Educational and Cultural Affairs Request for Grant Proposals: Islamic Life in the United States

SUMMARY: The Office of Citizen Exchanges of the Bureau of Educational and Cultural Affairs, U.S. Department of State, announces an open competition for two or more grants, each to support an exchange, or a series of exchanges, under the rubric “Islamic Life in the United States.” Public and private non-profit organizations or consortia of such organizations meeting the provisions described in Internal Revenue Code section 26 USC 501(c)(3) may submit proposals to develop and implement multi-phased international exchanges involving the travel of foreign Islamic scholars and clerics to the United States and of American Islamic scholars/scholars of Islamic studies and clerics to foreign Islamic communities.

Organizations must have four or more years of documented experience in conducting international exchange to be eligible to apply for a grant under this competition.

Program Information

Overview: The Office of Citizen Exchanges consults with and supports American public and private nonprofit organizations in developing and implementing multi-phased, often multi-year, exchanges of professionals, community leaders, scholars and academics, public policy advocates, non-governmental organization activists, etc. These exchanges address issues crucial to both the United States and the foreign countries involved; they promote focused, substantive, and cooperative interaction among counterparts; and they entail both theoretical and experiential learning for all participants. A primary goal is the development of sustained, international, institutional and individual linkages. In addition to providing a context for professional development and collaborative problem-solving, these projects are intended to introduce foreign participants and their American counterparts to one another's political, social, and economic structures, facilitating improved communication and enhancing mutual understanding. Desirable components of an exchange may be local citizen involvement and activities that orient foreign participants to American society and culture.

The initiative Islamic Life in the United States will support the international exchange of Islamic scholars and clerics—influential and recognized for their ability to communicate, either in scholarly writing or through sermons—from North Africa, the Middle East (including the Arabian Gulf states), South Asia, East Asia, and Southeast Asia. The objectives of the exchange(s) are (1) to enhance participants' understanding about the place of Islam in American society and culture; (2) to broaden participants' awareness of and appreciation for the serious study of Islam that is conducted in the United States (possibly leading to plans for collaborative research and publishing by American and non-American scholars); and (3) to provide a forum for serious discussion, primarily but not exclusively among the American and non-American Islamic scholars and clerics participating in the exchange, of such issues as the compatibility—in theory and practice—of Islam and a democratic social and political structure and the social vitality that grows from mutually respectful co-existence among diverse religious communities in a heterogeneous society.

Projects, to be conducted over a period of six to 18 months, may involve a single exchange or may, depending on the size of the grant requested and awarded, be separated into several distinct but similar exchanges, e.g., one exchange involving scholars and clerics from the predominantly Arabic-speaking countries of North Africa and the Middle East; one exchange involving scholars and clerics from Afghanistan, Pakistan, India, and Bangladesh; and one exchange focused on scholars and clerics from East and Southeast Asia—primarily the Philippines, Indonesia and Malaysia. It is assumed that these exchanges will be conducted in the languages of the foreign participants, and the proposal should provide and budget for interpretation. Each of these exchanges might entail the travel of from one to three American Muslim scholars/project organizers to several of the countries from which participants would be selected to become familiar with institutions and communities in those countries and with individuals who might serve as advisers to the project or might themselves be exchange participants. Phase two of each exchange would involve travel to and in the United States of a group of from 12 to 16 scholars and clerics—no fewer than two per country—who, over a period of three to four weeks, would visit Islamic centers, consult with American Muslim scholars and clerics, visit and become familiar with libraries and archives of Islamic documents, participate in discussions at institutions—both religious and secular—that represent America's guarantee of human dignity and freedom of worship, and possibly participate in a workshop/seminar at an Islamic institution dedicated to scholarship and research. One exchange visit might be scheduled so that the participants could attend the annual convention of the Islamic Society of North America.

The final phase of each exchange might entail travel to the region, either as a group or individually, of three or four American Muslim scholars and clerics who would meet with counterparts and, ideally, cooperate with participants in the original U.S. visit in presenting a seminar, a series of workshops, etc. in order to expand the network of individuals directly affected by the exchange.

The Office of Citizen Exchanges encourages applicants to be creative in planning project implementation. Activities may include both theoretical orientation and experiential, community-based initiatives designed to achieve objectives. Applicants should, in their proposals, identify any partner organizations and/or individuals in the U.S. with which/whom they are proposing to collaborate and justify the collaboration on the basis of experience, accomplishments, etc.

Selection of Participants

Applications should include a description of a merit-based, focused participant selection process. Applicants should anticipate consulting with the Public Affairs Sections of U.S. Embassies in selecting participants, with the Embassy retaining the right to nominate participants and to advise the grantee regarding participants recommended by other entities.

Public Affairs Section Involvement

The Public Affairs Sections (PAS) of the U.S. Embassies often play an important role in project implementation. Posts may evaluate project proposals, coordinate planning with the grantee organization and in-country partners, facilitate in-country activities, nominate participants and vet grantee nominations, observe in-country activities, debrief participants, and evaluate project impact. U.S. Missions are responsible for issuing DSP2019 forms (formerly known as IAP-66 forms) in order for foreign participants to obtain the necessary J-1 visas for entry to the United States on a government-funded project.

Though project administration and implementation are the responsibility of the grantee, the grantee is expected to inform the PAS in participating countries of its operations and procedures and to coordinate with PAS officers in the development of project activities. The PAS should be consulted regarding country priorities, political and cultural sensitivities, security issues, and logistic and programmatic issues.

Visa Regulations

Foreign participants on programs sponsored by ECA are granted J-1 Exchange Visitor visas by the U.S. Embassy in the sending country. All programs must comply with J-1 visa regulations. Please refer to Solicitation Package for further information.

Budget Guidelines

The Bureau anticipates awarding two or more grants from a total allocation of approximately $500,000 to support program and administrative costs required to implement this exchange initiative. Applicants must submit a comprehensive, line-item budget for the entire program based on guidance provided in the Proposal Submission Instructions (PSI) of the Solicitation Package. There must be a summary budget as well as breakdowns reflecting both administrative and program budgets. For clarification, applicants may provide separate sub-budgets for each program component, phase, location, or activity. For a proposal to be eligible for consideration, the budget must present evidence of cost sharing—in cash or in kind—representing no less than 20% of the total cost of the exchange project, e.g., an applicant requesting $300,000 in grant funds must demonstrate the ability/willingness to provide $60,000 in cost sharing; an applicant requesting $200,000 must demonstrate the ability to provide $40,000 in cost sharing. Allowable costs for the program include the following:

(1) Direct program expenses

(2) Administrative expenses, including indirect costs. Please refer to the Proposal Submission Instructions for complete budget guidelines and formatting instructions.

Announcement Title and Number: All correspondence with the Bureau concerning this RFGP should reference the above title and number ECA/PE/C/NEA-02-71.

To Download a Solicitation Package—Request for Grant Proposal (RFGP) and Proposal Submission Instructions (PSI)—Via Internet

The Solicitation Package may be downloaded from the ECA Web site: http://exchanges.state.gov/education/RFGPs. Please read all information before downloading. Should you be unable to download the Proposal Submission Instructions from the Department of State ECA website, you may request this document, which contains required application forms, specific budget instructions, and standard guidelines for proposal preparation from the Office of Citizen Exchanges.

FOR FURTHER INFORMATION CONTACT: The Office of Citizen Exchanges, ECA/PE/C, Room 216, U.S. Department of State, 301 4th Street, SW., Washington, DC 20547, attention: Thomas Johnston. Telephone number: 202/619-5325; fax number: 202/619-4350; Internet address: tjohnsto@pd.state.gov. Please specify Bureau Program Officer Thomas Johnston on all inquiries and correspondence.

Please read the complete Federal Register announcement before sending inquiries or submitting proposals. Once the RFGP deadline has passed, Bureau staff may not discuss this competition with applicants until the proposal review process has been completed.

Deadline for Proposals

All proposal copies must be received at the Bureau of Educational and Cultural Affairs by 5 p.m. Washington, DC time on June 20, 2002. Faxed documents will not be accepted at any time. Documents postmarked the due date but received on a later date will not be accepted. Each applicant must ensure that the proposals are received by the above deadline.

Applicants must follow all instructions in the Solicitation Package. The original and 10 copies of the application should be sent to: U.S. Department of State, SA-44, Bureau of Educational and Cultural Affairs, Ref.: ECA/PE/C/NEA-02-71, Program Management, ECA/EX/PM, Room 534, 301 4th Street, SW., Washington, DC 20547.

Applicants must also submit the “Executive Summary” and “Proposal Narrative” sections of the proposal on a 3.5″ diskette, formatted for DOS. These documents must be provided in ASCII text (DOS) format with a maximum line length of 65 characters. The Bureau will transmit these files electronically to the Public Affairs section at the US Embassy for its review, with the goal of reducing the time it takes to receive embassy comments for the Bureau's grants review process.

Diversity, Freedom and Democracy Guidelines

Pursuant to the Bureau's authorizing legislation, programs must maintain a non-political character and should be balanced and representative of the diversity of American political, social, and cultural life. “Diversity” should be interpreted in the broadest sense and encompass differences including, but not limited to ethnicity, race, gender, religion, geographic location, socio-economic status, and physical challenges. Applicants are strongly encouraged to adhere to the advancement of this principle both in program administration and in program content. Please refer to the review criteria under the 'Support for Diversity' section for specific suggestions on incorporating diversity into the total proposal. Public Law 104-319 provides that “in carrying out programs of educational and cultural exchange in countries whose people do not fully enjoy freedom and democracy,” the Bureau “shall take appropriate steps to provide opportunities for participation in such programs to human rights and democracy leaders of such countries.” Public Law 106-113 requires that the governments of the countries described above do not have inappropriate influence in the selection process. Proposals should reflect advancement of these goals in their program contents, to the full extent deemed feasible.

Review Process

The Bureau will acknowledge receipt of all proposals and will review them for technical eligibility. Proposals will be deemed ineligible if they do not fully adhere to the guidelines stated herein and in the Solicitation Package. All eligible proposals will be reviewed by the program office, as well as the Public Diplomacy sections of U.S. Missions overseas. Eligible proposals will be subject to compliance with Federal and Bureau regulations and guidelines and forwarded to Bureau grant panels for advisory review. Proposals may also be reviewed by the Office of the Legal Adviser or by other Department elements. Final funding decisions are at the discretion of the Department of State's Assistant Secretary for Educational and Cultural Affairs. Final technical authority for grants resides with the Bureau's Grants Officer.

Review Criteria

Technically eligible applications will be competitively reviewed according to the criteria stated below. These criteria are not rank ordered, and all carry equal weight in the proposal evaluation:

Quality of the program idea: Proposals should be substantive, well thought out, focused on issues of demonstrable relevance to all proposed participants, and responsive, in general, to the exchange suggestions and guidelines provided above.

Implementation Plan and Ability to Achieve Objectives: A detailed project implementation plan should establish a clear and logical connection between the interest, the expertise, and the logistic capacity of the applicant and the objectives to be achieved. The plan should discuss in concrete terms how the institution proposes to achieve the objectives. Institutional resources—including personnel—assigned to the project should be adequate and appropriate to achieve project objectives. The substance of workshops and site visits should be included as an attachment, and the responsibilities of U.S. participants and in-country partners should be clearly delineated.

Institution's Record/Ability: Proposals should include an institutional record of successful exchange programs, with reference to responsible fiscal management and full compliance with reporting requirements. The Bureau will consider the demonstrated potential of new applicants and will evaluate the performance record of prior recipients of Bureau grants as reported by the Bureau grant staff.

Follow-on Activities: Proposals should provide a plan for sustained follow-on activity (building on the linkages developed under the grant and the activities initially funded by the grant) after grant funds have been depleted. This will ensure that Bureau-supported projects are not isolated events.

Project Evaluation/Monitoring: Proposals should include a plan to monitor and evaluate the project's implementation, both as the activities unfold and at the end of the program. Reports should include both accomplishments and problems encountered. A discussion of survey methodology or other disclosure/measurement techniques, plus a description of how outcomes are defined in terms of the project's original objectives, is recommended. Successful applicants will be expected to submit a report after each project component is concluded or semi-annually, whichever is less frequent.

Impact: Proposed projects should, through the establishment of substantive, sustainable individual and institutional linkages and encouraging maximum sharing of information and cross-boundary cooperation, enhance mutual understanding among communities and societies.

Cost Effectiveness and Cost Sharing: Administrative costs should be kept low. Proposal budgets must provide evidence of cost sharing, comprised of cash or in-kind contributions, representing 20 percent or more of the total cost of the exchange. Cost sharing may be derived from diverse sources, including private sector contributions and/or direct institutional support.

Support of Diversity: Proposals should demonstrate support for the Bureau's policy on diversity. Features relevant to this policy should be cited in program implementation (selection of participants, program venue, and program evaluation), program content, and program administration.

Authority

Overall grant making authority for this program is contained in the Mutual Educational and Cultural Exchange Act of 1961, Public Law 87-256, as amended, also known as the Fulbright-Hays Act. The purpose of the Act is “to enable the Government of the United States to increase mutual understanding between the people of the United States and the people of other countries * * *; to strengthen the ties which unite us with other nations by demonstrating the educational and cultural interests, developments, and achievements of the people of the United States and other nations * * * and thus to assist in the development of friendly, sympathetic and peaceful relations between the United States and the other countries of the world.” The funding authority for the program above is provided through legislation.

Notice

The terms and conditions published in this RFGP are binding and may not be modified by any Bureau representative. Explanatory information provided by the Bureau that contradicts published language will not be binding. Issuance of the RFGP does not constitute an award commitment on the part of the Government. The Bureau reserves the right to reduce, revise, or increase proposal budgets in accordance with the needs of the program and the availability of funds. Awards made will be subject to periodic reporting and evaluation requirements.

Notification

Final awards cannot be made until funds have been appropriated by Congress, allocated, and committed through internal Bureau procedures.

Dated: April 22, 2002.
Rick A. Ruth,
Principal Deputy Assistant Secretary, Bureau of Educational and Cultural Affairs, Department of State.

[FR Doc. 02-10904 Filed 5-1-02; 8:45 am]

BILLING CODE 4710-05-P